POSTAL REGULATORY COMMISSION

[Docket Nos. CP2020-246; MC2025-691 and K2025-690; MC2025-692 and K2025-691; MC2025-693 and K2025-692; MC2025-694 and K2025-693; MC2025-695 and K2025-694; MC2025-696 and K2025-695; MC2025-697 and K2025-696; MC2025-698 and K2025-697; MC2025-699 and K2025-698; MC2025-700 and K2025-699; MC2025-701 and K2025-700; MC2025-702 and K2025-701; MC2025-703 and K2025-702; MC2025-704 and K2025-703; MC2025-705 and K2025-704; MC2025-706 and K2025-705; MC2025-707 and K2025-706; MC2025-708 and K2025-707; MC2025-709 and K2025-708; MC2025-710 and K2025-709; MC2025-711 and K2025-710; MC2025-712 and K2025-711; MC2025-713 and K2025-712; MC2025-714 and K2025-713; MC2025-715 and K2025-714; MC2025-716 and K2025-715; MC2025-717 and K2025-716; MC2025-718 and K2025-717; MC2025-719 and K2025-718; MC2025-720 and K2025-719; MC2025-721 and K2025-720; MC2025-722 and K2025-721; MC2025-723 and K2025-722; MC2025-724 and K2025-723; MC2025-725 and K2025-724; MC2025-726 and K2025-725; MC2025-727 and K2025-726; MC2025-728 and K2025-727; MC2025-729 and K2025-728; MC2025-730 and K2025-729]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 17, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: CP2020-246; Filing Title: Request of the United States Postal Service Concerning Modification Four to Priority Mail Express International, Priority Mail International, First-Class Package International Service & Commercial ePacket Contract 8 Negotiated Service Agreement, Which Includes an Extension of That Agreement; Filing Acceptance Date: December 9, 2024; Filing Authority: 39 CFR 3035.105, 39 CFR 3041.505, and 39 CFR 3041.515; Public Representative: Katalin Clendenin; Comments Due: December 17, 2024.

2. Docket No(s).: MC2025-691 and K2025-690; Filing Title: USPS Request to Add Priority Mail Express, Priority Mail & USPS Ground Advantage Contract 949 to the Competitive Product List and Notice of Filing Materials Under Seal; Filing Acceptance Date: December 9, 2024; Filing Authority: 39 U.S.C. 3642, 39 CFR 3035.105, and 39 CFR 3041.310; Public Representative: Katalin Clendenin; Comments Due: December 17, 2024.

3. Docket No(s).: MC2025-692 and K2025-691; Filing Title: USPS Request to Add Priority Mail Express, Priority Mail & USPS Ground Advantage Contract 950 to the Competitive Product List and Notice of Filing Materials Under Seal; Filing Acceptance Date: December 9, 2024; Filing Authority: 39 U.S.C. 3642, 39 CFR 3035.105, and 39 CFR 3041.310; Public Representative: Katalin Clendenin; Comments Due: December 17, 2024.

4. Docket No(s).: MC2025-693 and K2025-692; Filing Title: USPS Request to Add Priority Mail Express, Priority Mail & USPS Ground Advantage Contract 951 to the Competitive Product List and Notice of Filing Materials Under Seal; Filing Acceptance Date: December 9, 2024; Filing Authority: 39 U.S.C. 3642, 39 CFR 3035.105, and 39 CFR 3041.310; Public Representative: Maxine Bradley; Comments Due: December 17, 2024.

5. Docket No(s).: MC2025-694 and K2025-693; Filing Title: USPS Request to Add Priority Mail Express, Priority Mail & USPS Ground Advantage Contract 952 to the Competitive Product List and Notice of Filing Materials Under Seal; Filing Acceptance Date: December 9, 2024; Filing Authority: 39 U.S.C. 3642, 39 CFR 3035.105, and 39 CFR 3041.310; Public Representative: Maxine Bradley; Comments Due: December 17, 2024.

6. Docket No(s).: MC2025-695 and K2025-694; Filing Title: USPS Request to Add Priority Mail Express, Priority Mail & USPS Ground Advantage Contract 953 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

7. Docket No(s).: MC2025-696 and K2025-695; Filing Title: USPS Request to Add Priority Mail Express, Priority Mail & USPS Ground Advantage Contract 954 to the Competitive Product List and Notice of Filing Materials Under Seal; Filing Acceptance Date: December 9, 2024; Filing Authority: 39 U.S.C. 3642, 39 CFR 3035.105, and 39 CFR 3041.310; Public Representative: Gregory Stanton; Comments Due: December 17, 2024.

8. Docket No(s).: MC2025-697 and K2025-696; Filing Title: USPS Request to Add Priority Mail Express, Priority Mail & USPS Ground Advantage Contract 955 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

9. Docket No(s).: MC2025-698 and K2025-697; Filing Title: USPS Request to Add Priority Mail & USPS Ground Advantage Contract 519 to the Competitive Product List and Notice of Filing Materials Under Seal; Filing Acceptance Date: December 9, 2024; Filing Authority: 39 U.S.C. 3642, 39 CFR 3035.105, and 39 CFR 3041.310; Public Representative: Gregory Stanton; Comments Due: December 17, 2024.

10. Docket No(s).: MC2025-699 and K2025-698; Filing Title: USPS Request to Add Priority Mail Express, Priority Mail & USPS Ground Advantage Contract 956 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

11. Docket No(s).: MC2025-700 and K2025-699; Filing Title: USPS Request to Add Priority Mail Express, Priority Mail & USPS Ground Advantage Contract 957 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

12. Docket No(s).: MC2025-701 and K2025-700; Filing Title: USPS Request to Add Priority Mail Express, Priority Mail & USPS Ground Advantage Contract 958 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

13. Docket No(s).: MC2025-702 and K2025-701; Filing Title: USPS Request to Add Priority Mail Express, Priority Mail & USPS Ground Advantage Contract 959 to the Competitive Product List and Notice of Filing Materials Under Seal; Filing Acceptance Date: December 9, 2024; Filing Authority: 39 U.S.C. 3642, 39 CFR 3035.105, and 39 CFR 3041.310; Public Representative: Jana Slovinska; Comments Due: December 17, 2024.

14. Docket No(s).: MC2025-703 and K2025-702; Filing Title: USPS Request to Add Priority Mail Express, Priority Mail & USPS Ground Advantage Contract 960 to the Competitive Product List and Notice of Filing Materials Under Seal; Filing Acceptance Date: December 9, 2024; Filing Authority: 39 U.S.C. 3642, 39 CFR 3035.105, and 39 CFR 3041.310; Public Representative: Jana Slovinska; Comments Due: December 17, 2024.

15. Docket No(s).: MC2025-704 and K2025-703; Filing Title: USPS Request to Add Priority Mail Express, Priority Mail & USPS Ground Advantage Contract 961 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

16. Docket No(s).: MC2025-705 and K2025-704; Filing Title: USPS Request to Add Priority Mail Express, Priority Mail & USPS Ground Advantage Contract 962 to the Competitive Product List and Notice of Filing Materials Under Seal; Filing Acceptance Date: December 9, 2024; Filing Authority: 39 U.S.C. 3642, 39 CFR 3035.105, and 39 CFR 3041.310; Public Representative: Samuel Robinson; Comments Due: December 17, 2024.

17. Docket No(s).: MC2025-706 and K2025-705; Filing Title: USPS Request to Add Priority Mail Express, Priority Mail & USPS Ground Advantage Contract 963 to the Competitive Product List and Notice of Filing Materials Under Seal; Filing Acceptance Date: December 9, 2024; Filing Authority: 39 U.S.C. 3642, 39 CFR 3035.105, and 39 CFR 3041.310; Public Representative: Samuel Robinson; Comments Due: December 17, 2024.

18. Docket No(s).: MC2025-707 and K2025-706; Filing Title: USPS Request to Add Priority Mail & USPS Ground Advantage Contract 520 to the Competitive Product List and Notice of Filing Materials Under Seal; Filing Acceptance Date: December 9, 2024; Filing Authority: 39 U.S.C. 3642, 39 CFR 3035.105, and 39 CFR 3041.310; Public Representative: Samuel Robinson; Comments Due: December 17, 2024.

19. Docket No(s).: MC2025-708 and K2025-707; Filing Title: USPS Request to Add Priority Mail Express, Priority Mail & USPS Ground Advantage Contract 964 to the Competitive Product List and Notice of Filing Materials Under Seal; Filing Acceptance Date: December 9, 2024; Filing Authority: 39 U.S.C. 3642, 39 CFR 3035.105, and 39 CFR 3041.310; Public Representative: Christopher Mohr; Comments Due: December 17, 2024.

20. Docket No(s).: MC2025-709 and K2025-708; Filing Title: USPS Request to Add Priority Mail Express, Priority Mail & USPS Ground Advantage Contract 965 to the Competitive Product List and Notice of Filing Materials Under Seal; Filing Acceptance Date: December 9, 2024; Filing Authority: 39 U.S.C. 3642, 39 CFR 3035.105, and 39 CFR 3041.310; Public Representative: Christopher Mohr; Comments Due: December 17, 2024.

21. Docket No(s).: MC2025-710 and K2025-709; Filing Title: USPS Request to Add Priority Mail Express, Priority Mail & USPS Ground Advantage Contract 966 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

22. Docket No(s).: MC2025-711 and K2025-710; Filing Title: USPS Request to Add Priority Mail Express, Priority Mail & USPS Ground Advantage Contract 967 to the Competitive Product List and Notice of Filing Materials Under Seal; Filing Acceptance Date: December 9, 2024; Filing Authority: 39 U.S.C. 3642, 39 CFR 3035.105, and 39 CFR 3041.310; Public Representative: Christopher Mohr; Comments Due: December 17, 2024.

23. Docket No(s).: MC2025-712 and K2025-711; Filing Title: USPS Request to Add Priority Mail Express, Priority Mail & USPS Ground Advantage Contract 968 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

24. Docket No(s).: MC2025-713 and K2025-712; Filing Title: USPS Request to Add Priority Mail Express, Priority Mail & USPS Ground Advantage Contract 969 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

25. Docket No(s).: MC2025-714 and K2025-713; Filing Title: USPS Request to Add Priority Mail Express, Priority Mail & USPS Ground Advantage Contract 970 to the Competitive Product List and Notice of Filing Materials Under Seal; Filing Acceptance Date: December 9, 2024; Filing Authority: 39 U.S.C. 3642, 39 CFR 3035.105, and 39 CFR 3041.310; Public Representative: Elsie Lee-Robbins; Comments Due: December 17, 2024.

26. Docket No(s).: MC2025-715 and K2025-714; Filing Title: USPS Request to Add Priority Mail Express, Priority Mail & USPS Ground Advantage Contract 971 to the Competitive Product List and Notice of Filing Materials Under Seal; Filing Acceptance Date: December 9, 2024; Filing Authority: 39 U.S.C. 3642, 39 CFR 3035.105, and 39 CFR 3041.310; Public Representative: Maxine Bradley; Comments Due: December 17, 2024.

27. Docket No(s).: MC2025-716 and K2025-715; Filing Title: USPS Request to Add Priority Mail Express, Priority Mail & USPS Ground Advantage Contract 972 to the Competitive Product List and Notice of Filing Materials Under Seal; Filing Acceptance Date: December 9, 2024; Filing Authority: 39 U.S.C. 3642, 39 CFR 3035.105, and 39 CFR 3041.310; Public Representative: Maxine Bradley; Comments Due: December 17, 2024.

28. Docket No(s).: MC2025-717 and K2025-716; Filing Title: USPS Request to Add Priority Mail Express, Priority Mail & USPS Ground Advantage Contract 973 to the Competitive Product List and Notice of Filing Materials Under Seal; Filing Acceptance Date: December 9, 2024; Filing Authority: 39 U.S.C. 3642, 39 CFR 3035.105, and 39 CFR 3041.310; Public Representative: Maxine Bradley; Comments Due: December 17, 2024.

29. Docket No(s).: MC2025-718 and K2025-717; Filing Title: USPS Request to Add Priority Mail Express, Priority Mail & USPS Ground Advantage Contract 974 to the Competitive Product List and Notice of Filing Materials Under Seal; Filing Acceptance Date: December 9, 2024; Filing Authority: 39 U.S.C. 3642, 39 CFR 3035.105, and 39 CFR 3041.310; Public Representative: Gregory Stanton; Comments Due: December 17, 2024.

30. Docket No(s).: MC2025-719 and K2025-718; Filing Title: USPS Request to Add Priority Mail Express, Priority Mail & USPS Ground Advantage Contract 975 to the Competitive Product List and Notice of Filing Materials Under Seal; Filing Acceptance Date: December 9, 2024; Filing Authority: 39 U.S.C. 3642, 39 CFR 3035.105, and 39 CFR 3041.310; Public Representative: Gregory Stanton; Comments Due: December 17, 2024.

31. Docket No(s).: MC2025-720 and K2025-719; Filing Title: USPS Request to Add Priority Mail Express, Priority Mail & USPS Ground Advantage Contract 976 to the Competitive Product List and Notice of Filing Materials Under Seal; Filing Acceptance Date: December 9, 2024; Filing Authority: 39 U.S.C. 3642, 39 CFR 3035.105, and 39 CFR 3041.310; Public Representative: Gregory Stanton; Comments Due: December 17, 2024.

32. Docket No(s).: MC2025-721 and K2025-720; Filing Title: USPS Request to Add Priority Mail Express, Priority Mail & USPS Ground Advantage Contract 977 to the Competitive Product List and Notice of Filing Materials Under Seal; Filing Acceptance Date: December 9, 2024; Filing Authority: 39 U.S.C. 3642, 39 CFR 3035.105, and 39 CFR 3041.310; Public Representative: Almaroof Agoro; Comments Due: December 17, 2024.

33. Docket No(s).: MC2025-722 and K2025-721; Filing Title: USPS Request to Add Priority Mail Express, Priority Mail & USPS Ground Advantage Contract 978 to the Competitive Product List and Notice of Filing Materials Under Seal; Filing Acceptance Date: December 9, 2024; Filing Authority: 39 U.S.C. 3642, 39 CFR 3035.105, and 39 CFR 3041.310; Public Representative: Almaroof Agoro; Comments Due: December 17, 2024.

34. Docket No(s).: MC2025-723 and K2025-722; Filing Title: USPS Request to Add Priority Mail Express, Priority Mail & USPS Ground Advantage Contract 979 to the Competitive Product List and Notice of Filing Materials Under Seal; Filing Acceptance Date: December 9, 2024; Filing Authority: 39 U.S.C. 3642, 39 CFR 3035.105, and 39 CFR 3041.310; Public Representative: Almaroof Agoro; Comments Due: December 17, 2024.

35. Docket No(s).: MC2025-724 and K2025-723; Filing Title: USPS Request to Priority Mail & USPS Ground Advantage Contract 521 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

36. Docket No(s).: MC2025-725 and K2025-724; Filing Title: USPS Request to Add Priority Mail Express, Priority Mail & USPS Ground Advantage Contract 980 to the Competitive Product List and Notice of Filing Materials Under Seal; Filing Acceptance Date: December 9, 2024; Filing Authority: 39 U.S.C. 3642, 39 CFR 3035.105, and 39 CFR 3041.310; Public Representative: Almaroof Agoro; Comments Due: December 17, 2024.

37. Docket No(s).: MC2025-726 and K2025-725; Filing Title: USPS Request to Add Priority Mail Express, Priority Mail & USPS Ground Advantage Contract 981 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

38. Docket No(s).: MC2025-727 and K2025-726; Filing Title: USPS Request to Add Priority Mail Express, Priority Mail & USPS Ground Advantage Contract 982 to the Competitive Product List and Notice of Filing Materials Under Seal; Filing Acceptance Date: December 9, 2024; Filing Authority: 39 U.S.C. 3642, 39 CFR 3035.105, and 39 CFR 3041.310; Public Representative: Maxine Bradley; Comments Due: December 17, 2024.

39. Docket No(s).: MC2025-728 and K2025-727; Filing Title: USPS Request to Add Priority Mail Express, Priority Mail & USPS Ground Advantage Contract 983 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

40. Docket No(s).: MC2025-729 and K2025-728; Filing Title: USPS Request to Add Priority Mail Express, Priority Mail & USPS Ground Advantage Contract 984 to the Competitive Product List and Notice of Filing Materials Under Seal; Filing Acceptance Date: December 9, 2024; Filing Authority: 39 U.S.C. 3642, 39 CFR 3035.105, and 39 CFR 3041.310; Public Representative: Jennaca Upperman; Comments Due: December 17, 2024.

41. Docket No(s).: MC2025-730 and K2025-729; Filing Title: USPS Request to Add Priority Mail Express, Priority Mail & USPS Ground Advantage Contract 985 to the Competitive Product List and Notice of Filing Materials Under Seal; Filing Acceptance Date: December 9, 2024; Filing Authority: 39 U.S.C. 3642, 39 CFR 3035.105, and 39 CFR 3041.310; Public Representative: Christopher Mohr; Comments Due: December 17, 2024.

III. Summary Proceeding(s)

None. See Section II for public proceedings.

This Notice will be published in the Federal Register.

Mallory S. Richards,
Federal Register Liaison.

[FR Doc. 2024-29513 Filed 12-13-24; 8:45 am]

BILLING CODE 7710-FW-P